DEPARTMENT OF THE TREASURY

Request for Information—State Small Business Credit Initiative (SSBCI) Technical Assistance Funds

AGENCY: Departmental Offices, Treasury.

ACTION: Request for information; extension of comment period.

SUMMARY: On September 20, 2022, Treasury published a request for information (RFI) that invited the public to comment on how Treasury can use its authorities under the State Small Business Credit Initiative (SSBCI) to fund technical assistance (TA) to qualifying businesses applying to SSBCI credit and investment programs and other jurisdiction and Federal programs that support small businesses. The purpose of this notice is to extend the comment period and provide more time for interested parties to provide comments.

DATES: The comment period for the notice published September 20, 2022, at 87 FR 57558, is extended. Responses must be received by November 3, 2022 to be assured of consideration.

ADDRESSES: Please submit comments electronically through the Federal eRulemaking Portal: http://www.regulations.gov. All comments should be captioned with “SSBCI Request for Information Comments.” Please include your name, organization (if applicable), and email addresses. Where appropriate, a comment should include a short executive summary. In general, comments received will be posted on http://www.regulations.gov without change, including any business or personal information provided. Comments received, including attachments and other supporting materials, will be part of the public record and subject to public disclosure. Do not enclose any information in your comment or supporting materials that you consider confidential or inappropriate for public disclosure.

FOR FURTHER INFORMATION CONTACT: Jeffrey Stout, at (202) 622-2059 or ssbci_information@treasury.gov. Further information may be obtained from the SSBCI website, https://home.treasury.gov/policy-issues/small-business-programs/state-small-business-credit-initiative-ssbci.

SUPPLEMENTARY INFORMATION: The American Rescue Plan Act of 2021 (ARPA) reauthorized and amended the Small Business Jobs Act of 2010 (SSBCI statute) to provide $10 billion to fund SSBCI as a response to the economic effects of the COVID-19 pandemic,¹ including up to $500 million for TA to qualifying businesses. As further detailed in the SSBCI statute (12 U.S.C. 5708(e)), Treasury may generally deploy the $500 million for TA in three ways: (1) by providing funds to eligible jurisdictions to carry out qualifying TA plans, (2) by transferring amounts to the Minority Business Development Agency (MBDA) so that the MBDA may use such amounts in a matter it determines appropriate to provide TA to qualifying businesses, or (3) by contracting with legal, accounting, and financial advisory firms to provide TA to qualifying businesses. Treasury previously allocated $200 of the $500 million in TA funding to an SSBCI TA Grant Program to support jurisdictions' TA plans and $100 million to the MBDA.²

¹ ARPA, Public Law 117-2, sec. 3301, codified at 12 U.S.C. 5701 et seq. SSBCI was originally established in title III of the Small Business Jobs Act of 2010. Information about SSBCI is available at: https://home.treasury.gov/policy-issues/small-business-programs/state-small-business-credit-initiative-ssbci.

² See Treasury Announces Plans to Deploy $300 Million in Technical Assistance to Underserved Entrepreneurs and Very Small Businesses through the State Small Business Credit Initiative (April 28, 2022), https://home.treasury.gov/system/files/136/SSBCITA-Release-4-28-22.pdf.

On September 20, 2022, Treasury published an RFI in the Federal Register (87 FR 57558) to request public comment on how Treasury might allocate additional TA funding to jurisdictions or contract with TA providers. The RFI requested that respondents address certain Key Questions and provided that comments must be received by October 20, 2022 to be assured of consideration. This notice announces the extension of the comment period in order to give additional time for interested parties to provide comments. Responses must be received by November 3, 2022 to be assured of consideration.

Jeffrey Stout,
Director, SSBCI.

[FR Doc. 2022-22786 Filed 10-19-22; 8:45 am]

BILLING CODE 4810-AK-P